FEDERAL COMMUNICATIONS COMMISSION

47 CFR Part 25

[IB Docket No. 12-267; DA 14-1697]

Comprehensive Review of Licensing and Operating Rules for Satellite Services

AGENCY: Federal Communications Commission.

ACTION: Proposed rule; extension of comment and reply comment period.

SUMMARY: In this document, the International Bureau granted a request for an extension of time to file comments in response to a Further Notice of Proposed Rulemaking that initiated a comprehensive review of the Commission's rules governing space stations and earth stations. The original deadline for filing comments was December 15, 2014; the original deadline for filing reply comments was January 14, 2015. The International Bureau extended the deadlines for filing both comments and reply comments by 45 days.

DATES: Comments must be received on or before January 29, 2015. Reply comments must be received on or before March 2, 2015.

ADDRESSES: You may submit comments and reply comments, identified by IB Docket No. 12-267, by any of the following methods:

• Federal eRulemaking Portal: http://www.regulations.gov. Follow the instructions for submitting comments.

• Federal Communications Commission's Web site: http://www.fcc.gov/cgb/ecfs. Follow the instructions for submitting comments.

• People with Disabilities: Contact the FCC to request reasonable accommodations (accessible format documents, sign language interpreters, CART, etc.) by email: FCC504@fcc.gov or phone 202-418-0530 or TTY: 202-418-0432.

For detailed instructions for submitting comments and additional information on the rulemaking process, see the SUPPLEMENTARY INFORMATION section of this document.

FOR FURTHER INFORMATION CONTACT: Cindy Spiers, Satellite Division, International Bureau, at 202-418-1593 or via email at Cindy.Spiers@fcc.gov.

SUPPLEMENTARY INFORMATION: The original Notice of Proposed Rulemaking was published in the Federal Register at 79 FR 65106, October 31, 2014. The full text of this document is available for public inspection and copying during regular business hours at the FCC Reference Information Center, Portals II, 445 12th Street SW., Room CY-A257, Washington, DC 20554. This document may also be purchased from the Commission's duplicating contractor, Best Copy and Printing, Inc., Portals II, 445 12th Street SW., Room CY-B402, Washington, DC 20554, telephone 202-488-5300, facsimile 202-488-5563, or via email FCC@BCPIWEB.com.

Federal Communications Commission.
Mindel De La Torre,
Chief, International Bureau.

[FR Doc. 2014-28412 Filed 12-2-14; 8:45 am]

BILLING CODE 6712-01-P